NATIONAL SCIENCE FOUNDATION

Agency Information Collection Activities: Comment Request; Louis Stokes Alliances for Minority Participation (LSAMP) Program Evaluation

AGENCY: National Science Foundation.

ACTION: Notice.

SUMMARY: The National Science Foundation (NSF) is announcing plans to establish this collection. In accordance with the requirements of the Paperwork Reduction Act of 1995, we are providing the opportunity for final public comment on this action, following the expiration of the sixty-day Notice. After obtaining and considering this final public comment, NSF will, if necessary, update the OMB submission if requesting Office of Management and Budget (OMB) clearance of this collection for no longer than 3 years.

DATES: Written comments and recommendations for the proposed information collection should be sent within 30 days of publication of this notice to www.reginfo.gov/public/do/PRAmain. Find this particular information collection by selecting “Currently under 30-day Review—Open for Public Comments” or by using the search function.

FOR FURTHER INFORMATION CONTACT: Suzanne H. Plimpton, Reports Clearance Officer, National Science Foundation, 2415 Eisenhower Avenue, Suite E6447, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

SUPPLEMENTARY INFORMATION:

Comments: Comments regarding (a) whether the proposed collection of information is necessary for the proper performance of the functions of the NSF, including whether the information shall have practical utility; (b) the accuracy of the NSF's estimate of the burden of the proposed collection of information; (c) ways to enhance the quality, use, and clarity of the information on respondents; and (d) ways to minimize the burden of the collection of information on those who are to respond, including through the use of appropriate automated, electronic, mechanical, or other technological collection techniques or other forms of information technology should be addressed to the points of contact in the FOR FURTHER INFORMATION CONTACT section.

Title of Collection: Louis Stokes Alliances for Minority Participation (LSAMP) Program Evaluation.

OMB Control No.: 3145-New.

Abstract: This proposed data collection is a core component of a larger comprehensive evaluation strategy to assess the effectiveness and functioning of the Louis Stokes Alliances for Minority Participation (LSAMP) program, funded through grants from the National Science Foundation (NSF). LSAMP alliances are institutions of higher education (IHEs) that support the preparation of students at the undergraduate and postbaccalaureate levels in science, technology, engineering and technology (STEM) disciplines.

This current research seeks to consider the experiences of those leading and participating in LSAMP since the last full evaluation (which concluded in 2007), as well as current experiences, at ten select site locations. The ten sites were selected by the NSF in collaboration with its research partner, NORC at the University of Chicago, who will conduct all data collection. A key component of the site selection process was ensuring inclusion of alliance sites with varied features, to include sites with more remote geographies and alliance types.

This work will enable the program to better understand where successes can be modeled and replicated and opportunities can be identified to better support promising LSAMP students in these fields, by encouraging greater participation in academic and professional development opportunities. Currently, we are seeking approval to conduct interviews and focus groups with individuals who are affiliated with the LSAMP alliances at these pre-identified sites using the procedures discussed below.

As of FY2021, there were 61 LSAMP alliances, 55 of which were led by four-year institutions. There are three groups of LSAMP alliances: 11 STEM Pathways Implementation Only (SPIO) alliances in existence less than 10 years, 22 STEM Pathways Research Alliances (SPRA) in existence at least 10 or more years, and 22 alliances that had not yet applied for funding under the 2018 solicitation. Ten of the alliances in existence at least 10 years also have Bridge to the Doctorate (BD) projects that provide additional funding to support students' graduate work. An additional 6 alliances are Bridge to the Baccalaureate (B2B) alliances led by two-year institutions. Each alliance consists of a lead institution and several other partner institutions consisting of two-and-four year IHEs all operating towards the same alliance goals. Partner institutions typically are in the same geographic region. Participating STEM students in alliance schools could be defined in three groups: Level 1 students who receive direct financial support through the alliance for activities, Level 2 students who attended activities sponsored by the alliances but receive no direct funding, and Level 3 students who are students at LSAMP institutions who did not receive funds or participate in LSAMP activities.

Research suggests that collaboratives, such as the alliances funded by the LSAMP program can improve STEM degree completion rates, but long-term success requires sustained change at the institutional level (Center for Urban Education, 2019; May & Bridger, 2010). The LSAMP program has a 30-year history of broadening participation ¹ in STEM disciplines and the STEM workforce.

NORC at the University of Chicago's is leading the present approach for evaluating the effectiveness and impact, of the LSAMP program, under the guidance and sponsorship of the NSF Directorate for STEM Education (EDU). This evaluation aims to identify and characterize the organizational structure and institutionalization of LSAMP alliances and assess the impact of LSAMP activities and strategies to strengthen pathways and increase STEM degrees earned by promising LSAMP students in STEM on all educational levels.

As part of this comprehensive evaluation, and with a focus on fully utilizing all preexisting data, NORC has completed a thorough review of available data (e.g., annual reports). The LSAMP program anticipates using the results of this evaluation (both the review of existing data and data from site visits) to identify “LSAMP best practices” that can be implemented by both LSAMP grantee/alliance institutions and non-LSAMP grantees/alliance institutions to sustain and grow impacts of the LSAMP programming on broadening participation in STEM and inform the LSAMP program on sustainability mechanisms and goals appropriate for LSAMP alliance institutions to maintain their successful outcomes.

Respondents: LSAMP Faculty and Staff (200); LSAMP Students (120).

Estimated Number of Annual Respondents: 320.

Burden on the Public: Estimated 1-3 hours to participate in an interview or focus group (1 hour for staff and students, 3 hours for coordinators/provosts or other leaders). The estimated burden time is 750 hours.

Dated: April 30, 2025.
Suzanne H. Plimpton,
Reports Clearance Officer, National Science Foundation.

[FR Doc. 2025-07819 Filed 5-5-25; 8:45 am]

BILLING CODE 7555-01-P